DEPARTMENT OF ENERGY

Federal Energy Regulatory Commission

[Project No. 12756-007]

BOST3 Hydroelectric Company, LLC (BOST3); Notice of Application Accepted for Filing and Soliciting Comments, Motions To Intervene and Protests

Take notice that the following hydroelectric application has been filed with the Commission and is available for public inspection.

a. Type of Application: Non-Capacity Amendment of License.

b. Project No.: P-12756-007.

c. Date filed: November 14, 2016 and supplemented on January 30, 2017.

d. Applicant: BOST3 Hydroelectric Company, LLC (BOST3).

e. Name of Project: Red River Lock & Dam No. 3 Hydroelectric Project.

f. Location: The proposed project would be located at the existing Army Corps of Engineer's (Corps) Red River Lock & Dam No. 3 on the Red River, in Natchitoches Parish near the City of Colfax, Louisiana.

g. Filed Pursuant to: Federal Power Act, 16 U.S.C. 791a-825r

h. Applicant Contact: Mr. Douglas A. Spalding, BOST3 Hydroelectric Company, LLC, 8441 Wayzata Blvd., Suite 101, Golden Valley, MN 55426; (952) 544-8133.

i. FERC Contact: M. Joseph Fayyad (202) 502-8759, or by email at mo.fayyad@ferc.gov.

j. Deadline for filing comments, motions to intervene and protests is 30 days from the issuance of this notice by the Commission. The Commission strongly encourages electronic filing. Please file comments, motions to intervene, and protests using the Commission's eFiling system at http://www.ferc.gov/docs-filing/efiling.asp. Commenters can submit brief comments up to 6,000 characters, without prior registration, using the eComment system at http://www.ferc.gov/doc-sfiling/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-12756-007.

k. Description of Amendment: The licensee proposes certain design changes to the project's powerhouse, generating units, draft tube, switchyard location and transmission line route, as follows: (1) The powerhouse will be 93-foot-long by 198-foot-wide by 83 foot-high, with five 7.2 MW Kaplan bulb turbine-generator units: (2) five 70-foot-long by 198-foot-wide by 73-foot-high draft tubes that would convey water from the turbines to the tailrace; (3) move the location of the project's switchyard about 1400 feet southwest from the current licensed location; and (4) the transmission line would be about 2300-foot-long, 230-kV line connecting the powerhouse to Central Louisiana Electric Company at the project's 100-foot-long by 100-foot-wide switchyard. The design changes would reduce the total project's hydraulic capacity from 19,085 cubic feet per second (cfs) to 19,055 cfs. The amount of federal lands used by the project would increase from 61.8 acres to 76.31 acres.

l. Locations of the Applications: A copy of the application is available for inspection and reproduction at the Commission's Public Reference Room, located at 888 First Street NE., Room 2A, Washington, DC 20426, or by calling (202) 502-8371. The filing may also be viewed on the Commission's Web site at http://www.ferc.gov/docs-filing/elibrary.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659.

m. Individuals desiring to be included on the Commission's mailing list should so indicate by writing to the Secretary of the Commission.

n. Comments, Motions to Intervene, or Protests: Anyone may submit comments, a motion to intervene, or a protest in accordance with the requirements of Rules of Practice and Procedure, 18 CFR 385.210, .211, .214. In determining the appropriate action to take, the Commission will consider all protests or other comments filed, but only those who file a motion to intervene in accordance with the Commission's Rules may become a party to the proceeding. Any comments, motions to intervene, or protests must be received on or before the specified comment date for the particular application.

o. Filing and Service of Responsive Documents: Any filing must (1) bear in all capital letters the title “COMMENTS”, “MOTION TO INTERVENE”, or “PROTEST” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to project works which are the subject of this application. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: January 31, 2017.
Kimberly D. Bose,
Secretary.

[FR Doc. 2017-02420 Filed 2-3-17; 8:45 am]

BILLING CODE 6717-01-P